DEPARTMENT OF TRANSPORTATION

Surface Transportation Board

[Docket No. AB 1069X]

Kern Valley Railroad Company—Termination of Trackage Rights—in Las Animas County, CO

On September 10, 2010, Kern Valley Railroad Company (KVR) filed with the Board a petition for exemption under 49 U.S.C. 10502 from the provisions of 49 U.S.C. 10903 to terminate the grant of trackage rights held by BNSF Railway Company (BNSF) to operate over KVR's 2-mile Jansen Yard Segment between milepost 0.0 and milepost 2.0 in Jansen, Las Animas County, Colo. (the line). The line traverses United States Postal Service Zip Code 81082 and includes no stations.

The line, to KVR's knowledge, does not contain federally granted rights-of-way. Any documentation in KVR's possession will be made available promptly to those requesting it.

The interests of railroad employees will be protected by the conditions set forth in Oregon Short Line Railroad—Abandonment Portion Goshen Branch Between Firth & Ammon, in Bingham & Bonneville Counties, Idaho, 360 I.C.C. 91 (1979).

By issuance of this notice, the Board is instituting an exemption proceeding pursuant to 49 U.S.C. 10502(b).¹ A final decision will be issued by December 29, 2010.

¹ The petition seeks termination of trackage rights held by BNSF, which is not a party to this proceeding. The Board will address in a separate decision whether a petition for exemption is appropriate in this context.

Any offer of financial assistance (OFA) under 49 CFR 1152.27(b)(2) to subsidize continued rail service will be due no later than 10 days after service of a decision granting the petition for exemption. Each offer must be accompanied by a $1,500 filing fee. See 49 CFR 1002.2(f)(25).²

² Because this is a discontinuance proceeding and not an abandonment, trail use/rail banking and public use conditions are not appropriate. Similarly, no environmental or historic documentation is required under 49 CFR 1105.6(c)(2) and 1105.8.

All filings in response to this notice must refer to Docket No. AB 1069X and must be sent to: (1) Surface Transportation Board, 395 E Street, SW., Washington, DC 20423-0001, and (2) KVR's representative, Fritz R. Kahn, Esq., Fritz R. Kahn, P.C., 1920 N Street, NW. (8th floor), Washington, DC 20036. Replies to the petition are due on or before October 20, 2010.

Persons seeking further information concerning discontinuance procedures may contact the Board's Office of Public Assistance, Governmental Affairs, and Compliance at (202) 245-0238 or refer to the full abandonment and discontinuance regulations at 49 CFR pt. 1152. Questions concerning environmental issues may be directed to the Board's Office of Environmental Analysis (OEA) at (202) 245-0305. Assistance for the hearing impaired is available through the Federal Information Relay Service (FIRS) at 1-800-877-8339.

Board decisions and notices are available on our Web site at http://www.stb.dot.gov.

Decided: September 27, 2010.
By the Board, Rachel D. Campbell, Director, Office of Proceedings.
Jeffrey Herzig,
Clearance Clerk.

[FR Doc. 2010-24596 Filed 9-29-10; 8:45 am]

BILLING CODE 4915-01-P